DEPARTMENT OF ENERGY

Federal Energy Regulatory Commission

[Docket No. CP21-1-000]

Golden Pass Pipeline LLC; Notice of Schedule for the Preparation of an Environmental Assessment for the Compression Relocation and Modification Project

On October 2, 2020, Golden Pass Pipeline LLC (Golden Pass) filed an amendment application in Docket No. CP21-1-000 requesting a Certificate of Public Convenience and Necessity pursuant to Section 7(c) of the Natural Gas Act to modify certain pipeline facilities in Louisiana transporting natural gas to the Golden Pass LNG Terminal. The proposed project amendment is known as the Compression Relocation and Modification Project, and would enable Golden Pass to relocate and modify certain facilities approved in the Federal Energy Regulatory Commission's (Commission or FERC) Order Granting Authorizations under Section 3 and Section 7 of the Natural Gas Act issued on December 21, 2016 in Docket Nos. CP14-517-000 and CP14-518-000.

On October 19, 2020, the Commission issued its Notice of Application for the Project. Among other things, that notice alerted agencies issuing federal authorizations of the requirement to complete all necessary reviews and to reach a final decision on a request for a federal authorization within 90 days of the date of issuance of the Commission staff's environmental document for the Project.

This notice identifies Commission staff's intention to prepare an environmental assessment (EA) for the project amendment and the planned schedule for the completion of the environmental review.¹

¹ 40 CFR 1501.10 (2020).

Schedule for Environmental Review

Issuance of EA February 26, 2021

90-day Federal Authorization Decision Deadline May 27, 2021

If a schedule change becomes necessary, additional notice will be provided so that the relevant agencies are kept informed of the project amendment's progress.

Project Description

Specifically, Golden Pass seeks to modify previously authorized facilities, including:

• Relocate the approved compressor station at Milepost 66 approximately 3 miles, to MilePost 69, and increase the amount of compression at the relocated facility;

• add a meter station near MilePost 69 to support a new interconnection with a proposed interstate pipeline to be constructed an operated by Enable Gulf Run Transmission, LLC;

• elimination of the approved 24-inch diameter looping facilities between Milepost 63 and Milepost 66;

• remove any bi-directional piping modification to the Tennessee Gas Pipeline Company interconnect; and

• install minor modifications to existing interconnects at MilePost 66 and MilePost 68.

Background

On November 19, 2020, the Commission issued a Notice of Scoping Period Requesting Comments on Environmental Issues for the Proposed Compression Relocation and Modification Project (Notice of Scoping). The Notice of Scoping was sent to affected landowners; federal, state, and local government agencies; elected officials; environmental and public interest groups; Native American tribes; other interested parties; and local libraries and newspapers. No comments have been received to date; however, all substantive comments filed in response to the Notice of Scoping will be addressed in the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

Additional information about the Project is available from the Commission's Office of External Affairs at (866) 208-FERC or on the FERC website (www.ferc.gov). Using the “eLibrary” link, select “General Search” from the eLibrary menu, enter the selected date range and “Docket Number” excluding the last three digits (i.e., CP21-1), and follow the instructions. For assistance with access to eLibrary, the helpline can be reached at (866) 208-3676, TTY (202) 502-8659, or at FERCOnlineSupport@ferc.gov.

The eLibrary link on the FERC website also provides access to the texts of formal documents issued by the Commission, such as orders, notices, and rule makings.

Dated: December 9, 2020.
Kimberly D. Bose,
Secretary.

[FR Doc. 2020-27530 Filed 12-14-20; 8:45 am]

BILLING CODE 6717-01-P